SECURITIES AND EXCHANGE COMMISSION

[Release No. 34-65663; File No. SR-FINRA-2011-035]

Self-Regulatory Organizations; Financial Industry Regulatory Authority, Inc.; Notice of Filing of Partial Amendment No. 1 and Order Instituting Proceedings To Determine Whether To Approve or Disapprove a Proposed Rule Change, etc.

November 1, 2011.

Correction

In notice document 2011-28716 appearing on pages 68800-68803 in the issue of November 7, 2011, make the following correction:

On page 68802, in the third column, in the second full paragraph, in the eleventh line, “[insert date 45 days from publication in the Federal Register]”, should read “December 22, 2011”.

[FR Doc. C1-2011-28716 Filed 11-17-11; 8:45 am]

BILLING CODE 1505-01-D